DEPARTMENT OF COMMERCE

International Trade Administration

[A-533-869]

Certain New Pneumatic Off-the-Road Tires From India: Notice of Correction to Antidumping Duty Order

AGENCY: Enforcement and Compliance, International Trade Administration, Department of Commerce.

FOR FURTHER INFORMATION CONTACT: Lilit Astvatsatrian or Trisha Tran, AD/CVD Operations, Office IV, Enforcement and Compliance, International Trade Administration, U.S. Department of Commerce, 1401 Constitution Avenue NW., Washington, DC 20230; telephone: (202) 482-6412 or (202) 482-4852, respectively.

SUPPLEMENTARY INFORMATION:

Background

On March 6, 2017, the Department of Commerce (Department) published the Antidumping Duty Order on certain new pneumatic off-the-road tires from India.¹ In the Antidumping Duty Order, the Department inadvertently omitted a statement to explain that Balkrishna Industries Limited (BKT) is partially excluded from the Antidumping Duty Order.

¹ See Certain New Pneumatic Off-the-Road Tires from India: Antidumping Duty Order, 82 FR 12553 (March 6, 2017) (Antidumping Duty Order).

Correction

Because the Department calculated a weighted-average antidumping duty margin of zero percent for BKT in the Final Determination,² which was unchanged in the Amended Final Determination,³ BKT is partially excluded from the Antidumping Duty Order. Therefore, we are correcting the Antidumping Duty Order to specify that merchandise produced and exported by BKT is excluded from the Order. This exclusion does not apply to merchandise produced by BKT and exported by any other company or merchandise produced by any other company and exported by BKT. Resellers of merchandise produced by BKT, are also not entitled to this exclusion. The sections explaining the suspension of liquidation and listing the weighted-average antidumping duty margins and cash deposit rates should have appeared as follows:

² See Certain New Pneumatic Off-the-Road Tires From India: Final Negative Determination of Sales at Less Than Fair Value and Final Determination of Critical Circumstances, 82 FR 4848, 4849 (January 17, 2017) (“Final Determination”).

³ See Certain New Pneumatic Off-the-Road Tires from India and Sri Lanka: Amended Final Affirmative Countervailing Duty Determination for India and Countervailing Duty Orders, 82 FR 9056, 9058 (February 2, 2017) (Amended Final Determination).

Antidumping Duty Order

In accordance with sections 735(b)(1)(A)(i) and 735(d) of the Tariff Act of 1930, as amended (the Act), the International Trade Commission (ITC) notified the Department of its final determination that the industry in the United States producing off road tires is materially injured by reason of the less-than-fair value imports of off road tires from India.⁴ Therefore, in accordance with section 735(c)(2) of the Act, we are publishing this antidumping duty order.

⁴ See Letter to Ronald Lorentzen, Acting Assistant Secretary of Commerce for Enforcement and Compliance, from Rhonda K. Schmidtlein, Chairman of the U.S. International Trade Commission, regarding off the road tires from the India and Sri Lanka (February 23, 2017). See also Certain New Pneumatic Off-the-Road Tires from India and Sri Lanka, Investigation Nos. 701-TA-552-553 and 731-TA-1308 (Final), USITC Publication 4669 (February 2017).

As a result of the ITC's final determination, in accordance with section 736(a)(1) of the Act, the Department will direct U.S. Customs and Border Protection (CBP) to assess, upon further instruction by the Department, antidumping duties equal to the amount by which the normal value of the merchandise exceeds the export price (or constructed export price) of the merchandise, for all relevant entries of off-road tires from India, which specifically excludes merchandise exported and produced by BKT. Antidumping duties will be assessed on unliquidated entries of off road tires from India entered, or withdrawn from warehouse, for consumption on or after February 2, 2017, the date of publication of the Amended Final Determination.⁵

⁵ See Amended Final Determination, 82 FR at 9056.

Continuation of Suspension of Liquidation, in Part

In accordance with section 735(c)(1)(B) of the Act, the Department will instruct CBP to continue to suspend liquidation on all relevant entries of off road tires from India. These instructions suspending liquidation will remain in effect until further notice.

We will also instruct CBP to require cash deposits equal to the estimated weighted-average dumping margins indicated below. Accordingly, effective on the date of publication of the ITC's final affirmative injury determinations, CBP will require, at the same time as importers would normally deposit estimated duties on this subject merchandise, a cash deposit equal to the estimated weighted-average antidumping duty margins listed below.⁶ The all-others rate applies to all producers or exporters not specifically listed. For the purposes of determining cash deposit rates, the estimated weighted-average dumping margins for imports of subject merchandise from India have been adjusted for export subsidies found in the amended final determination of the companion countervailing duty investigation of this merchandise (i.e., 4.72 percent).⁷

⁶ See Section 736(a)(3) of the Act.

⁷ See Certain New Pneumatic Off-the-Road Tires from India and Sri Lanka: Amended Final Affirmative Countervailing Duty Determination for India and Countervailing Duty Orders, 82 FR 12556 (March 6, 2017).

Because the estimated weighted-average dumping margin for BKT's producer and exporter combination is zero, the Department is directing U.S. Customs and Border Protection not to suspend liquidation of entries of subject merchandise where BKT acted as both the producer and exporter. Entries of subject merchandise exported to the United States by any other producer and exporter combination are not entitled to this exclusion from suspension of liquidation and are subject to the cash deposit rate for the all-others entity.

Estimated Weighted-Average Dumping Margins

The estimated weighted-average antidumping duty margin percentages are as follows:

Exporter/producer | Weighted- average dumping margin (percent) | Cash deposit rate adjusted for subsidy offset (percent)
ATC Tires Private Ltd | 3.67 | 0.00
All-Others | 3.67 | 0.00

This correction to the Antidumping Duty Order is issued and published in accordance with section 736(a) of the Act.

Dated: May 26, 2017.
Ronald K. Lorentzen,
Acting Assistant Secretary for Enforcement and Compliance.

[FR Doc. 2017-11424 Filed 6-1-17; 8:45 am]

BILLING CODE 3510-DS-P